ENVIRONMENTAL PROTECTION AGENCY

[OPPT-2002-0004; FRL-7407-2]

Agency Information Collection Activities; Submission of EPA ICR No. 1188.07 (OMB No. 2070-0038) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Significant New Use Rules for Existing Chemicals—TSCA Section 5(a) (EPA ICR No. 1188.07; OMB Control No. 2070-0038). The ICR, which is abstracted below, describes the nature of the information collection and its estimated cost and burden. On April 16, 2002 (67 FR 18606), with a correction on May 15, 2002 (67 FR 34704), EPA sought comments on this ICR pursuant to 5 CFR 1320.8(d). EPA has addressed the single comment it received.

DATES: Additional comments may be submitted on or before December 13, 2002.

ADDRESSES: Follow the detailed instructions in the SUPPLEMENTARY INFORMATION section.

FOR FURTHER INFORMATION CONTACT: Barbara Cunningham, Acting Director, Environmental Assistance Division, Office of Pollution Prevention and Toxics, Environmental Protection Agency, Mailcode: 7408, 1200 Pennsylvania Ave., NW., Washington, DC 20460; telephone number: 202-554-1404; e-mail address: TSCA-Hotline@epa.gov.

SUPPLEMENTARY INFORMATION:

EPA has submitted the following ICR to OMB for review and approval according to the procedures prescribed in 5 CFR 1320.12. EPA has established a public docket for this ICR under docket ID No. OPPT-2002-0004, which is available for public viewing at the OPPT Docket in the EPA Docket Center, EPA West Building Basement Room B102, 1301 Constitution Ave., NW., Washington, DC. The Center is open from 8 a.m. to 4:30 p.m., Monday through Friday, excluding legal holidays. An electronic version of the public docket is available through EPA's electronic public docket and comment system, EPA Dockets (EDOCKET) at http://www.epa.gov/edocket.Use EDOCKET to submit or view public comments, access the index listing of the contents of the public docket, and to access those documents in the public docket that are available electronically. Once in the system, select “search,” then key in the docket ID number identified above.

Any comments related to this ICR should be submitted to EPA and OMB within 30 days of this notice, and according to the following detailed instructions:

(1) Submit your comments to EPA online using EDOCKET (our preferred method), by e-mail to oppt.ncic@epa.gov, or by mail to: Document Control Office (DCO), Office of Pollution Prevention and Toxics (OPPT), Environmental Protection Agency, Mailcode: 7407M, 1200 Pennsylvania Ave., NW., Washington, DC 20460, Attention Docket ID No. OPPT-2002-0004, and (2) Mail a copy of your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET.

Title: Significant New Use Rules for Existing Chemicals—TSCA Section 5(a) (EPA ICR No. 1188.07; OMB Control No. 2070-0038). This is a request to renew an existing approved collection that is scheduled to expire on November 30, 2002. Under 5 CFR 1320.10(e)(2), the Agency may continue to conduct or sponsor the collection of information while this submission is pending at OMB.

Abstract: Section 5 of the Toxic Substances Control Act (TSCA) provides EPA with a regulatory mechanism to monitor and, if necessary, control significant new uses of chemical substances. Section 5 authorizes EPA to determine by rule (a significant new use rule or SNUR), after considering all relevant factors, that a use of a chemical substance represents a significant new use. If EPA determines that a use of a chemical substance is a significant new use, section 5 requires persons to submit a notice to EPA at least 90 days before they manufacture, import, or process the substance for that use.

EPA uses the information obtained through this collection to evaluate the health and environmental effects of the significant new use. EPA may take regulatory actions under TSCA sections 5, 6 or 7 to control the activities for which it has received a SNUR notice. These actions include orders to limit or prohibit the manufacture, importation, processing, distribution in commerce, use or disposal of chemical substances. If EPA does not take action, section 5 also requires EPA to publish a Federal Register notice explaining the reasons for not taking action.

Responses to the collection of information are mandatory (see 40 CFR part 721). Respondents may claim all or part of a notice confidential. EPA will disclose information that is covered by a claim of confidentiality only to the extent permitted by, and in accordance with, the procedures in TSCA section 14 and 40 CFR part 2.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting burden for this collection of information is estimated to be about 119 hours per response. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Manufacturers, processors, importers, or distributors in commerce of chemical substances or mixtures.

Frequency of Collection: On occasion.

Estimated No. of Respondents: 8.

Estimated Total Annual Burden on Respondents: 1,020 hours.

Estimated Total Annual Costs: $84,306.

Changes in Burden Estimates: There is a decrease of 12 hours (from 1,032 hours to 1,020 hours) in the total estimated respondent burden compared with that identified in the information collection request most recently approved by OMB. This change results from updating estimates based upon historical information on SNURs promulgated by the EPA (adjustment). Based upon revised estimates, the number of SNUNs estimated to be received annually has increased from 3 to 5. Additionally, the estimated number of chemicals per SNUR has increased from 34 to 65.5. However, the estimated annual number of SNURs has decreased from 10 to 3 based upon historical information. A final change was the inclusion of burden hours to cover the time companies may use to verify that their chemicals are on the SNUR (adjustment). The changes result in an overall decrease in notification burden. The overall result of these adjustments is a decrease in estimated burden.

Dated: November 4, 2002.
Oscar Morales,
Director, Collection Strategies Division.

[FR Doc. 02-28846 Filed 11-12-02; 8:45 am]

BILLING CODE 6560-50-M